DEPARTMENT OF HEALTH AND HUMAN SERVICES

Administration for Community Living

Administration on Intellectual and Developmental Disabilities, President's Committee for People With Intellectual Disabilities

AGENCY: Administration for Community Living, HHS.

ACTION: Notice.

DATES: Wednesday, November 30, 2016 from 9:00 a.m. to 5:00 p.m.; and Thursday, December 1, 2016 from 9:00 a.m. to 3:00 p.m.

These meetings will be open to the general public.

ADDRESSES: These meetings will be held in U.S. Department of Health and Human Services/Hubert H. Humphrey Building located at 200 Independence Avenue SW., Conference Room 505A, Washington, DC 20201. Individuals who would like to participate via conference call may do so by dialing toll-free #: 888-677-5620, when prompted enter pass code: 1697798. Individuals whose full participation in the meeting will require special accommodations (e.g., sign language interpreting services, assistive listening devices, materials in alternative format such as large print or Braille) should notify Ms. Allison Cruz, Director, Office of Innovation, via email at Allison.Cruz@acl.hhs.gov, or via telephone at 202-795-7334, no later than Monday, November 18, 2016. The PCPID will attempt to accommodate requests made after this date, but cannot guarantee the ability to grant requests received after the deadline. All meeting sites are barrier free, consistent with the Americans with Disabilities Act (ADA) and the Federal Advisory Committee Act (FACA).

AGENDA: The Committee Members will discuss preparation of the PCPID 2017 Report to the President, including its content and format, and related data collection and analysis required to complete the writing of the Report. They will also receive presentations from selected experts in the field of Intellectual and Developmental Disabilities.

ADDITIONAL INFORMATION: For further information, please contact Ms. Allison Cruz, Director, Office of Innovation, 330 C Street SW., Switzer Building, Room 1114, Washington, DC 20201. Telephone: 202-795-7334. Fax: 202-795-7334. Email: Allison.Cruz@acl.hhs.gov.

SUPPLEMENTARY INFORMATION: The PCPID acts in an advisory capacity to the President and the Secretary of Health and Human Services on a broad range of topics relating to programs, services and support for individuals with intellectual disabilities. The PCPID executive order stipulates that the Committee shall: (1) Provide such advice concerning intellectual disabilities as the President or the Secretary of Health and Human Services may request; and (2) provide advice to the President concerning the following for people with intellectual disabilities: (A) Expansion of educational opportunities; (B) promotion of homeownership; (C) assurance of workplace integration; (D) improvement of transportation options; (E) expansion of full access to community living; and (F) increasing access to assistive and universally designed technologies.

Dated: October 27, 2016.
Aaron Bishop,
Commissioner, Administration on Disabilities (AoD)

[FR Doc. 2016-26880 Filed 11-7-16; 8:45 am]

BILLING CODE 4154-01-P